DEPARTMENT OF TRANSPORTATION

Federal Highway Administration

Environmental Impact Statement; Lee and Collier Counties, Florida

AGENCY: Federal Highway Administration (FHWA), DOT.

ACTION: Notice of cancellation of notice of intent.

SUMMARY: The FHWA is issuing this notice of cancellation to advise the public that we are no longer lead Federal Agency for preparation of an Environmental Impact Statement (EIS) for the proposed County Road 951 highway project in Lee and Collier Counties, Florida. This is formal cancellation of the notice of intent that was published in the Federal Register on June 27, 2005.

FOR FURTHER INFORMATION CONTACT: Mr. George Hadley, Environmental Programs Coordinator, Federal Highway Administration, 545 John Knox Road, Suite 200, Tallahassee, Florida 32303, Telephone (850) 942-9650 extension 3011.

SUPPLEMENTARY INFORMATION: The notice of intent to prepare an EIS was for proposed roadway improvements by upgrading the existing facility or building on new alignment for a distance of approximately 15 miles. The notice of intent to prepare an EIS is rescinded.

(Catalog of Federal Domestic Assistance Program Number 20.205, Highway Research, Planning and Construction. The regulations implementing Executive Order 12372 regarding inter-governmental consultation on Federal programs and activities apply to this program.)

Issued on: March 4, 2010.
George B. Hadley,
Environmental Programs Coordinator, Tallahassee, Florida.

[FR Doc. 2010-5160 Filed 3-9-10; 8:45 am]

BILLING CODE 4910-22-P